ENVIRONMENTAL PROTECTION AGENCY

[ER-FRL-6678-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060096, ERP No. D-BOP-B81010-NH, Berlin, Coos County, Proposed Federal, Correctional Institution, Construction and, Operation, City of Berlin, Coos County, NH.

Summary: EPA expressed environmental concerns about wetland impacts and mitigation. Rating EC2.

EIS No. 20060143, ERP No. D-NPS-B61025-MA, Cape Cod National Seashore (CACO) Hunting Program, General Management Plan, Implementation, Barnstable County, MA.

Summary: EPA does not object to the proposed project.

Rating LO.

EIS No. 20060152, ERP No. D-BLM-K65308-00, Surprise Field Office Project, Resource, Management Plan, Implementation, Cedarville; Modoc and Lassen, CA and Washoe and Humboldt, Counties, NV.

Summary: EPA expressed environmental concerns about potential impacts to vegetation, soils, and riparian areas from the Preferred Alternative, and requested that additional mitigation and measures be incorporated.

Rating EC2.

EIS No. 20060208, ERP No. D-AFS-K65309-00, Heavenly Mountain Resort Master Plan Amendment 2005 (MPA 05), Improve and Enhance the Resorts Over Winter and Summer Recreation Opportunities, Special-Use-Permit, Lake Tahoe Basin, El Dorado County, CA and Douglas County, NV.

Summary: EPA expressed environmental concerns about impacts to water resources, habitat, and old growth forests.

Rating EC2.

Final EISs

EIS No. 20060107, ERP No. F-AFS-B65013-VT, Green Mountain National Forest, Propose Revised Land and Resource Management Plan, Implementation, Forest Plan Revision, Addison, Bennington, Rutland, Washington, Windham and Windsor Counties, VT.

Summary: EPA does not object to the proposed project.

EIS No. 20060291, ERP No. F-NOA-E91016-00, Consolidated Atlantic Highly Migratory Species Fishery Management Plan for Atlantic Tunas, Swordfish, and Shark and the Atlantic Billfish Fishery Management Plan, Implementation, Atlantic Coast, Caribbean and Gulf of Mexico.

Summary: EPA does not object to the proposed action.

Dated: August 8, 2006.
Robert W. Hargrove,
Director, NEPA Compliance Division, Office of Federal Activities.

[FR Doc. E6-13160 Filed 8-10-06; 8:45 am]

BILLING CODE 6560-50-P